DEPARTMENT OF HOMELAND SECURITY

Federal Emergency Management Agency

[Docket ID FEMA-2014-0002; Internal Agency Docket No. FEMA-B-1299]

Proposed Flood Hazard Determinations

AGENCY: Federal Emergency Management Agency, DHS.

ACTION: Notice; correction.

SUMMARY: On August 9, 2013, the Federal Emergency Management Agency (FEMA) published in the Federal Register a proposed flood hazard determination notice that included informtion for the Township of McCandless in the table titled “Allegheny County, Pennsylvania (All Jurisdictions)”. This notice provides corrections to be used in lieu of the information published for the Township of McCandless in that table at 78 FR 48703-48706.

DATES: Comments are to be submitted on or before July 9, 2014.

ADDRESSES: You may submit comments, identified by Docket No. FEMA-B-1299, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: FEMA proposes to make flood hazard determinations in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Correction

In the proposed flood hazard determination notice published at 78 FR 48703-48706, in the August 9, 2013, issue of the Federal Register, FEMA published a table titled “Allegheny County, Pennsylvania (All Jurisdictions)”. This table included the Township of McCandless as one of the communities for which flood hazard changes were being proposed. Following publication in the Federal Register, FEMA learned that the official designation for this community had been changed and the community is now identified as the Town of McCandless. This correction notice provides notification of the change in designation for this community. The official designation of the community provided by this correction notice should be used in lieu of that previously published.

(Catalog of Federal Domestic Assistance No. 97.022, “Flood Insurance.”)

Dated: May 9, 2014.
Roy E. Wright,
Deputy Associate Administrator for Mitigation, Department of Homeland Security, Federal Emergency Management Agency.

[FR Doc. 2014-13298 Filed 6-6-14; 8:45 am]

BILLING CODE 9110-12-P